POSTAL REGULATORY COMMISSION

Sunshine Act Meetings

TIME AND DATE: Wednesday, November 3, 2010, at 11 a.m.

PLACE: Commission hearing room, 901 New York Avenue, NW., Suite 200, Washington, DC 20268-0001.

STATUS: Parts of this meeting will be open to the public. The rest of the meeting will be closed to the public. The open parts of the meeting will be audiocast. The audiocast can be accessed via the Commission's website at http://www.prc.gov.

MATTERS TO BE CONSIDERED: The agenda for the Commission's November meeting includes the nine items identified below.

PORTIONS OPEN TO THE PUBLIC: 1. Review of postal-related congressional activity.

2. Report on international activities.

3. Review of active cases.

4. Report on recent activities of the Joint Periodicals Task Force and status of the report to the Congress pursuant to Section 708 of the PAEA.

5. Report on the status of the Annual Report.

6. Report on vacancies and positions recently filled.

PORTIONS CLOSED TO THE PUBLIC: 7. Discussion of pending litigation.

8. Discussion of confidential personnel issues.

9. Discussion of contracts involving confidential commercial information.

CONTACT PERSON FOR MORE INFORMATION: Stephen L. Sharfman, General Counsel, Postal Regulatory Commission, 901 New York Avenue, NW., Suite 200, Washington, DC 20268-0001, at stephen.sharfman@prc.gov or 202-789-6820 (for agenda-related inquiries) and Shoshana M. Grove, Secretary, at 202-789-6800 (for inquiries related to meeting location, access for handicapped or disabled persons, the audiocast, or other similar matters).

Dated: October 22, 2010.
By the Commission.
Shoshana M. Grove,
Secretary.

[FR Doc. 2010-27231 Filed 10-22-10; 4:15 pm]

BILLING CODE 7710-FW-P